DEPARTMENT OF TRANSPORTATION

Surface Transportation Board

[STB Finance Docket No. 34633]

Wisconsin & Southern Railroad Co.—Acquisition Exemption—Union Pacific Railroad Company

AGENCY: Surface Transportation Board, DOT.

ACTION: Notice of exemption.

SUMMARY: Under 49 U.S.C. 10502, the Board is granting a petition for exemption from the prior approval requirements of 49 U.S.C. 10902 for Wisconsin & Southern Railroad Co. (WSOR), a Class II carrier, to purchase and lease from the Union Pacific Railroad Company and operate approximately 14 miles of rail line between milepost 1.2 at Sheboygan and milepost 14.95 at Plymouth, WI.

DATES: The exemption will be effective on February 6, 2005. Petitions to stay must be filed by January 24, 2005. Petitions to reopen must be filed by January 31, 2005.

ADDRESSES: An original and 10 copies of all pleadings referring to STB Finance Docket No. 34633 must be filed with the Surface Transportation Board, 1925 K Street, NW., Washington, DC 20423-0001. In addition, one copy of all pleadings must be served on petitioner's representative, John D. Heffner, 1920 N Street, NW., Suite 800, Washington, DC 20036.

FOR FURTHER INFORMATION CONTACT: Joseph H. Dettmar, (202) 565-1609. [Assistance for the hearing impaired is available through the Federal Information Relay Service (FIRS) at 1-800-877-8339.]

SUPPLEMENTARY INFORMATION: Additional information is contained in the Board's decision. To purchase a copy of the full decision, write to, e-mail, or call: ASAP Document Solutions, 9332 Annapolis Rd., Suite 103, Lanham, MD 20706; e-mail: asapdc@verizon.net; telephone: (202) 306-4004. [Assistance for the hearing impaired is available through FIRS at 1-800-877-8339.]

Board decisions and notices are available on our Web site at www.stb.dot.gov.

Decided: January 19, 2005.
By the Board, Chairman Nober, Vice Chairman Buttrey, and Commissioner Mulvey.
Vernon A. Williams,
Secretary.

[FR Doc. 05-1399 Filed 1-25-05; 8:45 am]

BILLING CODE 4915-01-P